INTERNATIONAL TRADE COMMISSION

[Investigation No. 731-TA-1575 and 731-TA-1577 (Final)]

Emulsion Styrene-Butadiene Rubber From Czechia and Russia; Corrected Determinations

AGENCY: U.S. International Trade Commission.

ACTION: Notice; correction.

SUMMARY: Correction is made to the date determinations in these investigations were completed and filed.

SUPPLEMENTARY INFORMATION:

Correction

In the Federal Register of January 9, 2023 (88 FR 1292) in FR Doc. 2023-00145, on page 1292, in the second column, in the Background section, the date the determinations were completed and filed should be January 3, 2023.

Issued: January 11, 2023.
Katherine Hiner,
Acting Secretary to the Commission.

[FR Doc. 2023-00860 Filed 1-17-23; 8:45 am]

BILLING CODE 7020-02-P